DEPARTMENT OF THE TREASURY

Office of Foreign Assets Control

Unblocking of One Entity Pursuant to Executive Order 13067

AGENCY: Office of Foreign Assets Control, Treasury.

ACTION: Notice.

SUMMARY: The U.S. Department of the Treasury's Office of Foreign Assets Control (OFAC) is publishing the name of one entity whose property and interests in property are no longer subject to blocking pursuant to Executive Order (E.O.) 13067 of November 3, 1997.

DATES: OFAC's action described in this notice is effective as of March 9, 2016.

FOR FURTHER INFORMATION CONTACT: Associate Director for Global Targeting, tel.: 202/622-2420, Assistant Director for Sanctions Compliance & Evaluation, tel.: 202/622-2490, Assistant Director for Licensing, tel.: 202/622-2480, or Department of the Treasury's Chief Counsel (Foreign Assets Control), Office of the General Counsel, tel.: 202/622-2410 (not toll free numbers).

SUPPLEMENTARY INFORMATION:

Electronic and Facsimile Availability

The List of Specially Designated Nationals and Blocked Persons (SDN List) and additional information concerning OFAC sanctions programs are available from OFAC's Web site (www.treasury.gov/ofac). Certain general information pertaining to OFAC's sanctions programs is also available via facsimile through a 24-hour fax-on-demand service, tel.: 202/622-0077.

Notice of OFAC Actions

On March 9, 2016, the Acting Director of OFAC, in consultation with the State Department, determined that circumstances no longer warrant the inclusion of the following entity on OFAC's SDN List, and that this entity is no longer subject to the blocking provisions of Section 1 of E.O. 13067.

Entity

ATBARA CEMENT COMPANY LIMITED, P.O. Box 36, Atbara, Sudan [SUDAN].

Dated: March 9, 2016.
John E. Smith,
Acting Director, Office of Foreign Assets Control.

[FR Doc. 2016-05659 Filed 3-11-16; 8:45 am]

BILLING CODE 4810-AL-P